DEPARTMENT OF TRANSPORTATION

Federal Aviation Administration

Draft Written Re-Evaluation for Environmental Impact Statement: T.F. Green Airport, Warwick, RI

AGENCY: Federal Aviation Administration (FAA), DOT.

ACTION: Notice of availability and notice of comment period.

SUMMARY: The FAA is issuing this notice to advise the public that a Draft Written Re-Evaluation for an Environmental Impact Statement (EIS) has been prepared for Theodore Francis Green Airport in Warwick, Rhode Island.

DATES: Comments must be received by January 7, 2013.

ADDRESSES: Send comments by any of the following methods: Email: Richard.doucette@faa.gov Include “Comment to T.F. Green Draft Written Re-Evaluation” in the subject line Mail: Richard Doucette, Environmental Program Manager, Federal Aviation Administration New England, 12 New England Executive Park, Burlington, MA 01803.

FOR FURTHER INFORMATION CONTACT: Richard Doucette, Environmental Program Manager, Federal Aviation Administration New England, 12 New England Executive Park, Burlington, MA 01803, (781) 238-7613, or at Richard.doucette@faa.gov.

SUPPLEMENTARY INFORMATION: The FAA is making available a Draft Written Re-Evaluation document, which evaluates the impacts of Runway Safety Areas and other airfield improvements at Theodore Francis Green Airport in Warwick, Rhode Island. The document will assist the FAA in determining the suitability of the July 2011 EIS and September 2011 Record of Decision (ROD). The Re-Evaluation document is available for review during normal business hours at the following locations:

FAA New England, 16 New England Executive Park, Burlington, MA, 781-238-7613;

Warwick Central Library, 600 Sandy Lane, Warwick, RI, 401-739-5440;

Warwick Library, Apponaug Branch, 3267 Post Road, Warwick, RI, 401-739-6411;

Warwick Library, Norwood Branch, 328 Pawtuxet Ave., Warwick, RI, 401-941-7545.

Copies of the document can be obtained by contacting Richard Doucette at Richard.doucette@faa.gov or 781-238-7613. It is also available at http://www.faa.gov/airports/new_england/

Public comments will be accepted through January 7, 2013.

Issued on: November 26, 2012.
Richard Doucette,
Environmental Program Manager, Airports Division, FAA New England Region.

[FR Doc. 2012-29744 Filed 12-5-12; 4:15 pm]

BILLING CODE 4910-13-P